DEPARTMENT OF THE INTERIOR

National Park Service

Temporary Concession Contract for Great Basin National Park, NV

AGENCY: National Park Service, Department of the Interior.

ACTION: Notice of proposed award of temporary concession contract for the operation of Lehman Caves Gift and Cafe within Great Basin National Park, NV.

SUMMARY: Pursuant to 36 CFR 51.24, public notice is hereby given that the National Park Service proposes to award a temporary concession contract for the operation of a gift shop and cafe available to the public visiting Great Basin National Park, Nevada for a term of three (3) years. This action is necessary to avoid continued interruption of visitor services.

DATES: The term of the temporary concession contract will commence on July 1, 2008 and end on June 30, 2011.

SUPPLEMENTARY INFORMATION: The temporary concession contract is proposed to be awarded to Half Year, Inc., a qualified person, and will authorize Half Year Inc., to provide food and beverage service as well as a retail outlet for the sales of gifts and souvenirs at the Lehman Caves Visitor Center within Great Basin National Park. All of these services are seasonal and are provided during only half of the year, from approximately April 1 through mid-October.

Previously, these services had been provided by another concessioner, who had been authorized by Concession Contract CC-GRBAOO1-98 to conduct visitor services during the period January 1, 1998, through December 31, 2007.

Prior to the expiration of CC-GRBAOO1-98, the National Park Service had taken a number of reasonable and appropriate steps in order to avoid any interruption of visitor services. A public solicitation process inviting the general public to submit proposals for a new concession contract began in the spring of 2007, with the issuance, on April 9th 2007, of a prospectus for CC-GRBAOO1-07. That solicitation closed on August 16th 2007, but subsequently had to be cancelled, pursuant to 36 CFR 51.11, in late 2007. The National Park Service then proceeded with a second solicitation for a new concession contract, issuing a new prospectus on January 11th 2008 for CC-GRBAOO1-08. This second solicitation closed on March 18th 2008; however, no responsive offers were received.

Another public solicitation for proposals cannot be completed prior to the end of the limited operating season available for these services during 2008. At this time, however, a qualified person is willing to provide these services on a temporary basis.

Therefore, the National Park Service has determined that a temporary contract is necessary in order to avoid an interruption of visitor services and has taken all reasonable and appropriate steps to consider alternatives to avoid this interruption of visitor services.

This action is issued pursuant to 36 CFR 51.24(a). This is not a request for proposals.

Daniel N. Wen,
Deputy Director, Operations.

[FR Doc. E8-20981 Filed 9-10-08; 8:45 am]

BILLING CODE 4312-53-M